DEPARTMENT OF TRANSPORTATION

Federal Aviation Administration

14 CFR Part 39

[Docket No. FAA-2015-3659; Directorate Identifier 2014-SW-050-AD]

RIN 2120-AA64

Airworthiness Directives; MD Helicopters Inc., Helicopters

AGENCY: Federal Aviation Administration (FAA), DOT.

ACTION: Notice of proposed rulemaking (NPRM).

SUMMARY: We propose to adopt a new airworthiness directive (AD) for MD Helicopters Inc. (MDHI) Model 369A, 369D, 369E, 369FF, 369HE, 369HM, 369HS, 500N, and 600N helicopters with a certain part-numbered main rotor blade attach pin (pin) installed. This proposed AD would require ensuring the life limit of the pin as listed in the Airworthiness Limitations section of aircraft maintenance records and Instructions for Continued Airworthiness (ICA). If the hours time-in-service (TIS) of a pin is unknown, or if a pin has exceeded its life limit, this proposed AD would require removing the affected pin from service. This proposed AD is prompted by a report from an operator who purchased pins that did not have life limit documentation. The proposed actions are intended to document the life limit to prevent a pin remaining in service beyond its fatigue life, which could result in failure of a pin, failure of a main rotor blade, and subsequent loss of control of the helicopter.

DATES: We must receive comments on this proposed AD by November 2, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Aerometals, 3920 Sandstone Dr., El Dorado Hills, CA 95762, telephone (916) 939-6888, fax (916) 939-6555, www.aerometals.aero. You may review the referenced service information at the FAA, Office of the Regional Counsel, Southwest Region, 10101 Hillwood Pkwy, Room 6N-321, Fort Worth, TX 76177.

FOR FURTHER INFORMATION CONTACT: Galib Abumeri, Aviation Safety Engineer, Los Angeles Aircraft Certification Office, Transport Airplane Directorate, FAA, 3960 Paramount Blvd., Lakewood, California 90712; telephone (562) 627-5324; email Galib.Abumeri@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We propose to adopt a new AD for MDHI Model 369A, 369D, 369E, 369FF, 369HE, 369HM, 369HS, 500N, and 600N helicopters with a pin part-number (P/N) 369X1004-5 installed. This proposed AD would require determining the number of hours TIS of each pin and whether the aircraft maintenance records contain a pin life limit. If the hours TIS are unknown, this proposed AD would require removing the pin from service. If the aircraft maintenance records do not contain a pin life limit, this proposed AD would require revising the records and establishing a life limit of 5,760 hours if the pin is installed on a Model 369A, 369HE, 369HM, or 369HS helicopter, or 7,600 hours if the pin is installed on a Model 369D, 369E, 369FF, 500N, or 600N helicopter. This proposed AD would also require revising the records to add a statement that if a pin is interchanged between different model helicopters, then its life limit must be restricted to the lower life limit even if it was originally installed on a helicopter model with a higher life limit. Lastly, this proposed AD would prohibit installing a pin on any helicopter before these proposed requirements have been accomplished.

Aerometals produces pin P/N 369X1004-5 under a parts manufacturer approval as a replacement pin for MDHI P/N 369A1004-5. This proposed AD is prompted by a report from an operator who purchased Aerometals' pins P/N 369X1004-5 without life limit documentation. The FAA inadvertently approved the pins without a life limit in the Airworthiness Limitations section and without a restriction for parts that are interchanged between models with different life limits. A total of 5,133 affected pins were sold by Aerometals without any indication that the parts were life-limited. The proposed actions are intended to correct the failure of these parts to have a documented life limit to prevent a pin remaining in service beyond its fatigue life, which could result in failure of a pin, failure of a main rotor blade, and subsequent loss of control of the helicopter.

FAA's Determination

We are proposing this AD because we evaluated all known relevant information and determined that an unsafe condition exists and is likely to exist or develop on other products of these same type designs.

Related Service Information

Aerometals has issued Aero-ICA-1001 Supplemental Instructions for Continued Airworthiness, Revision NC, dated May 22, 2014, and Service Bulletin Aero-SB-1103, dated July 2, 2014. The service bulletin specifies determining whether the helicopter has pins P/N 369X1004-5 installed and then reviewing the aircraft maintenance records to determine if the pins have a life limit identified. If the life limit is not the same as that listed in the ICA, the service bulletin specifies revising the life limit in the maintenance records. The service bulletin states that the pins were approved by the FAA as Parts Manufacturer Approval direct replacement parts with the same life limits as the parts they replace. However, they were sold without an FAA-approved supplemental ICA containing an Airworthiness Limitations Section specifically assigning these life limits to the pins.

Proposed AD Requirements

This proposed AD would require, within 100 hours TIS or during the next annual inspection, whichever comes first:

° Reviewing the maintenance records and determining the hours TIS of each pin and whether there is a pin life limit listed in the Airworthiness Limitations Section of the applicable maintenance manual or ICA. If the hours TIS on a pin are unknown, the proposed AD would require removing the pin from service.

° For Model 369A, 369HE, 369HM, and 369HS helicopters, if there is no pin life limit, establishing a new life limit of 5,760 hours TIS and removing any pin from service that has 5,760 or more hours TIS.

° For Model 369D, 369E, 369FF, 500N and 600N helicopters, if there is no pin life limit, establishing a new life limit of 7,600 hours TIS and removing any pin from service that has 7,600 or more hours TIS.

° For all model helicopters, establishing a requirement that if a pin is interchanged between model helicopters with different life limits, the life limit of the pin must be restricted to the lowest life limit.

This proposed AD would also prohibit installing a pin P/N 369X1004-5 on any helicopter until the requirements of the AD have been accomplished.

Costs of Compliance

We estimate that this proposed AD would affect 118 helicopters of U.S. Registry.

We estimate that operators may incur the following costs in order to comply with this AD. Labor costs are estimated at $85 per hour. We estimate l/2 work hour to inspect and record any update for a total of $42.50 per helicopter and $5,015 for the U.S. fleet. If required, we estimate 1 work hour per helicopter to replace 10 pins because each blade has 2 pins and each helicopter has 5 blades. Required parts are $445 for each pin. Based on these estimates, it would cost $4,535 per helicopter to replace 10 pins if the pins have exceeded their life limit.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

MD Helicopters Inc.: Docket No. FAA-2015-3659; Directorate Identifier 2014-SW-050-AD.

(a) Applicability

This AD applies to Model 369A, 369D, 369E, 369FF, 369HE, 369HM, 369HS, 500N, and 600N helicopters with an Aerometals main rotor blade attach pin (pin) part number (P/N) 369X1004-5 installed, certificated in any category.

(b) Unsafe Condition

This AD defines the unsafe condition as a pin remaining in service beyond its fatigue life. This condition could result in failure of a pin, loss of a main rotor blade, and subsequent loss of control of the helicopter.

(c) Comments Due Date

We must receive comments by November 2, 2015.

(d) Compliance

You are responsible for performing each action required by this AD within the specified compliance time unless it has already been accomplished prior to that time.

(e) Required Actions

(1) Within 100 hours time-in-service (TIS) or during the next annual inspection, whichever occurs first:

(i) Review the maintenance records and determine the hours TIS of each pin P/N 369X1004-5 and whether there is a pin life limit listed in the Airworthiness Limitations Section of the applicable maintenance manual or Instructions for Continued Airworthiness (ICA). If the hours TIS on a pin is unknown, remove the pin from service.

(ii) For Model 369A, 369HE, 369HM, and 369HS helicopters, if there is no pin life limit, establish a new life limit of 5,760 hours TIS for each pin P/N 369X1004-5 by making pen-and-ink changes or by inserting a copy of this AD into the Airworthiness Limitations Section of the maintenance manual or the ICA. Remove from service any pin that has 5,760 or more hours TIS.

(iii) For Model 369D, 369E, 369FF, 500N, and 600N helicopters, if there is no pin life limit, establish a new life limit of 7,600 hours TIS for each pin P/N 369X1004-5 by making pen-and-ink changes or by inserting a copy of this AD into the Airworthiness Limitations Section of the maintenance manual or the ICA. Remove from service any pin that has 7,600 or more hours TIS.

(iv) For all model helicopters, add the following statement to the Airworthiness Limitations Section of the maintenance manual or the ICA by making pen-and-ink changes or by inserting a copy of this AD: If interchanged between different model helicopters, the life limit of pin P/N 369X1004-5 must be restricted to the lowest life limit indicated for the helicopter models and serial numbers affected.

(2) Do not install a pin P/N 369X1004-5 on any helicopter before the requirements of this AD have been accomplished.

(f) Alternative Methods of Compliance (AMOC)

(1) The Manager, Los Angeles Aircraft Certification Office, FAA, may approve AMOCs for this AD. Send your proposal to: Galib Abumeri, Aviation Safety Engineer, Transport Airplane Directorate, FAA, 3960 Paramount Blvd., Lakewood, California 90712; telephone (562) 627-5324 or email at 9-ANM-LAACO-AMOC-REQUESTS@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

Aerometals Service Bulletin Aero-SB-1103, dated July 2, 2014, and Aerometals Aero-ICA-101 Supplemental Instructions for Continued Airworthiness, Revision NC, dated May 22, 2014, which are not incorporated by reference, contain additional information about the subject of this AD. For service information identified in this AD, contact Aerometals, 3920 Sandstone Dr., El Dorado Hills, CA 95762, telephone (916) 939-6888, fax (916) 939-6555, www.aerometals.aero. You may review a copy of information at the FAA, Office of the Regional Counsel, Southwest Region, 10101 Hillwood Pkwy, Room 6N-321, Fort Worth, TX 76177.

(h) Subject

Joint Aircraft Service Component (JASC) Code: 6210 Main Rotor Blades.

Issued in Fort Worth, Texas, on August 21, 2015.
Lance T. Gant,
Acting Directorate Manager, Rotorcraft Directorate, Aircraft Certification Service.

[FR Doc. 2015-21680 Filed 9-1-15; 8:45 am]

BILLING CODE 4910-13-P